DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: National Health Service Corps Information Follow-up Form—[New]

The National Health Service Corps (NHSC) of the Bureau of Clinician Recruitment and Service, HRSA, is committed to improving the health of the Nation's underserved by uniting communities in need with caring health professionals and by supporting communities' efforts to build better systems of care.

The NHSC Information Follow-up Form, which NHSC will use when exhibiting at national and regional conferences as well as when presenting on campuses to health profession students, is an optional form that a health profession student, licensed clinician, faculty member, or clinical site administrator can fill out. Individuals who submit the form to NHSC, may ask questions and/or sign up to receive periodic program updates and other general information regarding opportunities with the NHSC via e-mail. An individual is free to discontinue receiving communication from NHSC at anytime by e-mailing NHSCupdate@hrsa.gov. Completed forms will contain information such as, the names of the individuals, theire-mail address(es), their city and State, their phone number, the organization where they are employed (or the school which they attend), the year they intend to graduate (if applicable), how they heard about NHSC, which NHSC programs they are interested in, etc. Assistance in completing the form will be given by the BCRS staff person (or BCRS representative) who is present at the event. Based on the FY10 exhibit and presentation schedule, NHSC could have gathered information from 2,400 individuals. Using this as a guide for future years, the estimated annual burden is as follows:

Form | Number of respondents | Responses per respondent | Total responses | Hours per response | Total burden hours
Information Follow-up Form | 2,400 | 1 | 2,400 | .025 (90 seconds) | 60
Total | 2,400 | 1 | 2,400 | .025 (90 seconds) | 60

E-mail comments to paperwork@hrsa.gov or mail the HRSA Reports Clearance Officer, Room 10-33, Parklawn Building, 5600 Fishers Lane, Rockville, MD 20857. Written comments should be received within 60 days of this notice.

Dated: September 1, 2010.
Sahira Rafiullah,
Director, Division of Policy and Information Coordination.

[FR Doc. 2010-22233 Filed 9-3-10; 8:45 am]

BILLING CODE 4165-15-P